NUCLEAR REGULATORY COMMISSION

[Docket No. 030-34325]

Notice of Availability of Environmental Assessment and Finding of No Significant Impact for Amendment of a Materials Permit in Accordance With Byproduct Materials License No. 03-23853-01va, for Unrestricted Release of a Department of Veterans Affairs' Facility in Coatesville, PA

AGENCY: Nuclear Regulatory Commission.

ACTION: Issuance of Environmental Assessment and Finding of No Significant Impact for License Amendment.

FOR FURTHER INFORMATION CONTACT: William Snell, Senior Health Physicist, Decommissioning Branch, Division of Nuclear Materials Safety, Region III, U.S. Nuclear Regulatory Commission, 2443 Warrenville Road, Lisle, Illinois 60532; telephone: (630) 829-9871; fax number: (630) 515-1259; or by e-mail at wgs@nrc.gov.

SUPPLEMENTARY INFORMATION:

I. Introduction

The U.S. Nuclear Regulatory Commission (NRC) is considering the amendment of a materials permit held under Master Byproduct Materials License No. 03-23853-01VA. The license is held by the Department of Veterans Affairs (the Licensee). The permit pertains to its VA Medical Center facility located at 1400 Black Horse Hill Road, Coatesville, Pennsylvania (the Facility). Issuance of the amendment would authorize release of the Facility's Building 11 for unrestricted use and termination of the permit. The Licensee requested this action in a letter dated June 28, 2007. The NRC has prepared an Environmental Assessment (EA) in support of this proposed action in accordance with the requirements of Title 10, Code of Federal Regulations (CFR), part 51 (10 CFR part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the Licensee's June 28, 2007, materials permit amendment request, resulting in release of Building 11 for unrestricted use. License No. 03-23853-01VA was issued on March 17, 2003, pursuant to 10 CFR Parts 30 and 35, and has been amended periodically since that time. This license authorizes the Licensee to use byproduct materials at Licensee facilities, as authorized by permits issued by the Licensee's National Radiation Safety Committee for: Medical use defined in 10 CFR part 35; research and development as defined in 10 CFR part 30; portable gauge use; and veterinary use.

Building 11 is a three-story brick building containing 65 rooms, is approximately 40 by 200 feet in size, and was used for research. The site is located in a semi-rural area of mixed residential and commercial land use. Between 1964 and 1996, the VA Medical Center in Coatesville possessed numerous Atomic Energy Commission and NRC licenses. Use of licensed materials at the Medical Center ceased in 1995, and the last of the licenses was terminated in 1996 and the site was released for unrestricted use. Following that action, 28 radioactive-labeled vials were found in Building 11. Accordingly, in February 2006, the Licensee issued a new permit authorizing the Facility to store these vials pending their disposal.

Based on the Licensee's historical knowledge of the site and the conditions of Building 11, the Licensee determined that only routine decontamination activities in accordance with NRC guidance were required to search for any other radioactive materials and conduct radiological surveys of Building 11. The Licensee was not required to submit a decommissioning plan to the NRC because worker cleanup activities and procedures are consistent with those approved for routine operations. The Licensee conducted surveys of Building 11 on February 2, April 6, September 28, and October 4, 2006, and on March 9, 2007, and provided information to the NRC to demonstrate that the proposed action will meet the criteria in Subpart E of 10 CFR part 20 for unrestricted release.

Need for the Proposed Action

The Licensee has ceased conducting licensed activities in Building 11, and seeks the unrestricted use of Building 11.

Environmental Impacts of the Proposed Action

The historical review of licensed activities conducted in Building 11 shows that such activities involved use of the following radionuclides with half-lives greater than 120 days: hydrogen-3 (H-3) and carbon-14 (C-14). Prior to performing the final status survey, the Licensee conducted decontamination activities, as necessary, in the areas of Building 11 affected by these radionuclides.

The Licensee completed final status surveys on Building 11 on March 9, 2007. The surveys covered all areas of Building 11. The final status survey report was attached to the Licensee's amendment request dated June 28, 2007. The Licensee elected to demonstrate compliance with the 10 CFR 20.1402 criteria for unrestricted release by using release criteria for building surfaces based on NRC Regulatory Guide 1.86, “Termination of Operating Licenses for Reactors.” The criterion used is 5 × 10³ disintegrations per minute per 100 square centimeters (dpm/100 cm²) for H-3 and C-14. These values are much more restrictive than the radionuclide-specific dose-based release criteria described in NUREG-1757, “Consolidated NMSS Decommissioning Guidance,” Volume 2, which are 1.2 × 10⁸ dpm/100 cm² for H-3 and 3.7 × 10⁶ dpm/100 cm² for C-14. These values define the maximum amount of residual radioactivity on building surfaces, equipment, and materials that will satisfy the NRC requirements in Subpart E of 10 CFR part 20 for unrestricted release. The Licensee's final status survey results were below these values and are in compliance with the As Low As Reasonably Achievable (ALARA) requirement of 10 CFR 20.1402. The NRC thus finds that the Licensee's final status survey results are acceptable.

Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 (ML042310492, ML042320379, and ML042330385). The staff finds there were no significant environmental impacts from the use of radioactive material in Building 11. The NRC staff reviewed the docket file records and the final status survey report to identify any non-radiological hazards that may have impacted the environment surrounding Building 11. No such hazards or impacts to the environment were identified. The NRC has identified no other radiological or non-radiological activities in the area that could result in cumulative environmental impacts.

The NRC staff finds that the proposed release of Building 11 for unrestricted use and the termination of the Licensee's permit is in compliance with 10 CFR part 20. Based on its review, the staff considered the impact of the residual radioactivity from Building 11 and concluded that the proposed action will not have a significant effect on the quality of the human environment.

Environmental Impacts of the Alternatives to the Proposed Action

Due to the largely administrative nature of the proposed action, its environmental impacts are small. Therefore, the only alternative the staff considered is the no-action alternative, under which the staff would leave things as they are by simply denying the amendment request. This no-action alternative is not feasible because it conflicts with 10 CFR 30.36(d), requiring that decommissioning of byproduct material facilities be completed and approved by the NRC after licensed activities cease. The NRC's analysis of the Licensee's final status survey data confirmed that Building 11 meets the requirements of 10 CFR 20.1402 for unrestricted release. Additionally, denying the amendment request would result in no change in current environmental impacts. The environmental impacts of the proposed action and the no-action alternative are therefore similar, and the no-action alternative is accordingly not further considered.

Conclusion

The NRC staff has concluded that the proposed action is consistent with the NRC's unrestricted release criteria specified in 10 CFR 20.1402. Because the proposed action will not significantly impact the quality of the human environment, the NRC staff concludes that the proposed action is the preferred alternative.

Agencies and Persons Consulted

NRC provided a draft of this Environmental Assessment to the Pennsylvania Bureau of Radiation Protection for review on October 5, 2007. On October 10, 2007, the Bureau of Radiation Protection, responded by e-mail. The State agreed with the conclusions of the EA, and otherwise had no comments.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. E. Lynn McGuire, Department of Veterans Affairs, letter to Cassandra Frazier, U.S. Nuclear Regulatory Commission, Region III, dated June 28, 2007 (ADAMS Accession No. ML071860254);

2. Regulatory Guide 1.86, “Termination of Operating Licenses for Reactors;”

3. Title 10 Code of Federal Regulations, Part 20, Subpart E, “Radiological Criteria for License Termination;”

4. Title 10 Code of Federal Regulations, Part 51, “Environmental Protection Regulations for Domestic Licensing and Related Regulatory Functions;”

5. NUREG-1496, “Generic Environmental Impact Statement in Support of Rulemaking on Radiological Criteria for License Termination of NRC-Licensed Nuclear Facilities;”

6. NUREG-1757, “Consolidated NMSS Decommissioning Guidance.”

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at Lisle, Illinois, this 16th day of November 2007.
For the Nuclear Regulatory Commission.
Patrick L. Louden,
Chief, Decommissioning Branch, Division of Nuclear Materials Safety, Region III.

[FR Doc. E7-23161 Filed 11-28-07; 8:45 am]

BILLING CODE 7590-01-P